DEPARTMENT OF TRANSPORTATION

Federal Highway Administration

[Docket No. FHWA-2021-0017]

Notice of Intent To Prepare an Environmental Impact Statement for Proposed Highway Improvements in Brunswick County, North Carolina and Horry County, South Carolina

AGENCY: Federal Highway Administration (FHWA), U.S. Department of Transportation.

ACTION: Notice of Intent to Prepare an Environmental Impact Statement.

SUMMARY: The FHWA is issuing this Notice of Intent (NOI) to solicit comments and advise the public, agencies, and stakeholders of an Environmental Impact Statement (EIS) that will be prepared to study the effects of a proposed project for improvements to SC 31 starting near Little River, Horry County, South Carolina and running northeast to US 17, in an area between Calabash and Shallotte, Brunswick County, North Carolina. This project is called the “Carolina Bays Parkway Extension” and is North Carolina Department of Transportation (NCDOT) Project No. R-5876 and South Carolina Department of Transportation (SCDOT), Project No. P029554. NCDOT is administering the development of this project in cooperation with SCDOT and other participating agencies. This notice contains a summary of the information as required in the Council on Environmental Quality (CEQ) National Environmental Policy Act (NEPA) regulations. This NOI should be reviewed together with the Supplementary NOI Information document which contains important details about the proposed project.

DATES: Comments on the NOI or the Supplementary NOI Information document must be received on or before November 8, 2021.

ADDRESSES: This NOI and the Supplementary NOI Information document are available in the docket referenced above at www.regulations.gov and on the project website located at https://www.ncdot.gov/projects/carolina-bays-parkway. A copy of the NOI and Supplementary NOI Information document can also be mailed by sending a request to the following address: U.S. Department of Transportation, Federal Highway Administration, Terry Sanford Federal Building, ATTN: Clarence W. Coleman, P.E., Preconstruction and Environment Director, RE: Carolina Bays Parkway Extension NOI, 310 New Bern Avenue, Suite 410, Raleigh, NC 27601.

Please limit any comments or questions to the information contained in this notice or the Supplementary NOI information document. Questions or comments should be posted to the docket found at www.regulations.gov under number FHWA-2021-0017. Otherwise they may also be submitted by email to Carolina-Bays-Pkwy@publicinput.com or by calling (855) 925-2801 and entering project code 7734 when prompted. All comments received by the close of comments will be posted to the docket.

All submissions should include the agency name and the docket number that appears in the heading of this Notice. All comments received will be posted without change to http://www.regulations.gov, including any personal information provided.

FOR FURTHER INFORMATION CONTACT: Clarence W. Coleman, P.E., Director of Preconstruction, Federal Highway Administration, 310 New Bern Avenue, Suite 410, Raleigh, North Carolina 27601-1418, Telephone: (919) 747-7014; or Mr. D. Chad Kimes, P.E., North Carolina Department of Transportation, Division 3 Engineer, 5501 Barbados Boulevard, Castle Hayne, North Carolina 28429, Telephone: (910) 675-0143.

SUPPLEMENTARY INFORMATION: The environmental review of transportation alternatives for the US 17 corridor will be conducted in accordance with the requirements of the National Environmental Policy Act (NEPA) of 1969, as amended (42 U.S.C. 4321, et seq.), 23 U.S.C. 139, CEQ regulations implementing NEPA (40 CFR 1500-1508), FHWA regulations implementing NEPA (23 CFR 771.101—771.139), and all applicable Federal, State, and local governmental laws and regulations.

FHWA, in cooperation with NCDOT and SCDOT, will prepare an EIS addressing proposed improvements along the US 17 corridor located in the coastal regions of South Carolina and North Carolina.

Purpose and Need

The primary purpose of the project is to improve the transportation network in the study area by enhancing mobility and connectivity for traffic moving in and through the project area. Mobility refers to the movement of people or goods, and connectivity refers to the density of connections in road networks and the directness of links. Many intersections and roadway segments in the study area are expected to either approach or exceed the roadway capacity limits by 2040. The population within Horry and Brunswick counties has steadily increased, and is expected to continue to increase, along with the number of tourists to the area. Growth in population, tourism, and supporting services has resulted in an increase in mixed‐purpose traffic on area roads.

Public involvement related to the project purpose and need has occurred. A project newsletter requesting input on the project's draft purpose and need statement was distributed to property owners and residents in the project study area in December 2018. Overall, commenters were supportive of the project and believe there is too much traffic, particularly in the summer and during evening rush hour.

The NEPA/Section 404 Merger Team, a group of representatives from various environmental, transportation, and local agencies responsible for coordinating and participating in the environmental process for this project, concurred on the purpose and need for the project at their March 19, 2019 Concurrence Point 1 (CP1) meeting.

Expected Impacts

The EIS will include the environmental impacts of seven build alternatives (Corridor Concepts 1, 1A, 2, 4, 4A, 7, and 8) carried forward for analysis, as well as the no build alternative. It will include any adverse environmental effects which cannot be avoided and any irreversible or irretrievable commitments of resources which would be involved in the proposal should it be implemented. The following is a brief summary of the range of estimated preliminary impacts that could result from the build alternatives carried forward.

With regard to the natural environment, Corridor Concepts 1, 1A, and 2 are on the lower end of the range of wetland impacts calculated, while Corridor Concepts 4 and 4A are on the higher end of the range. Concepts 1A, 4A, and 7 are on the lower end of the range of stream impacts calculated for each of the build concepts, while Concepts 1, 4, and 8 are on the higher end. Corridor Concept 8 would impact areas designated as Essential Fish Habitat. Impacts to the 100-year floodplain range between 52 acres and 214 acres with Corridor Concepts 1A and 4A on the lower end of the range and Corridor Concept 2 on the higher end. Corridor Concepts 1A and 4A each would impact approximately one acre of floodway, while the other corridor concepts would impact approximately 2.5 acres of floodway.

With regard to the human environment, Corridor Concept 8 has greater impacts to single-family residential and commercial/industrial resources than the other corridor concepts, while Corridor Concepts 7 and 8 have greater impacts to multi-family residential resources. There is a range of impacts when considering other elements of the human environment such as churches, cemeteries, and golf courses. There are no trends which would distinguish the corridor concepts when analyzing the data for physical resources such as hazardous waste sites, underground storage tanks, and electrical substations. It should be noted these estimated impacts are based on preliminary analysis and will be further refined as more comprehensive information is obtained through detailed field studies, environmental analysis, and further roadway design.

A detailed discussion of build alternatives, along with a table describing preliminary impacts for all resources to be analyzed in the EIS, is included in the supplemental document.

Anticipated Permits and Other Authorizations

Due to anticipated impacts to streams and wetlands, the U.S. Army Corps of Engineers will need to issue a Section 404 of the Clean Water Act permit. FHWA will authorize the use of Federal funds for right of way and construction when all requirements, including NEPA compliance, are satisfied.

Pursuant to 40 CFR 1502.16, a description of the environmental impacts of the proposed action and reasonable alternatives to the proposed action and the significance of those impacts will be disclosed in the DEIS, including information on compliance with the Endangered Species Act and Section 106 of the Historic Preservation Act of 1966. The comparison of the proposed action and reasonable alternatives will be based on this discussion of the impacts.

Environmental Coordination Schedule

Environmental coordination will involve utilization of NCDOT's NEPA/Section 404 Merger Process, a synchronized review process with various Federal, State, and local agencies performing the various environmental review and permitting procedures or consultation requirements necessary for a proposed project concurrently. The process provides a forum for appropriate agency representatives to discuss and reach consensus on ways to facilitate meeting the regulatory requirements of Section 404 of the Clean Water Act (CWA) during the NEPA decision-making phase of transportation projects. The Merger Process involves interagency meetings that include FHWA as the lead Federal agency, the U.S. Army Corps of Engineers as a cooperating agency, and the following additional concurring agencies: NCDOT, SCDOT, U.S. Environmental Protection Agency (USEPA), U.S. Fish & Wildlife Service (USFWS), National Oceanic and Atmospheric Administration (NOAA) Fisheries, North Carolina Department of Environmental Quality—Division of Water Resources (NCDEQ DWR), South Carolina Department of Health and Environmental Control (SCDHEC), North Carolina Department of Environmental Quality—Division of Coastal Management (NCDEQ DCM), SCDHEC—Ocean & Coastal Resource Management (OCRM), North Carolina Wildlife Resources Commission (NCWRC), South Carolina Department of Natural Resources (SCDNR), SCDHEC—Bureau of Water, North Carolina State Historic Preservation Office (NC SHPO), South Carolina State Historic Preservation Office (SHPO), Cape Fear Rural Transportation Planning Organization (Cape Fear RPO), Grand Strand Area Transportation Study—Metropolitan Planning Organization (GSATS MPO), and Horry County (SC).

During the Merger Process, these agencies coordinate on seven (7) concurrence points: Concurrence Point 1, Purpose and Need and Study Area Defined; Concurrence Point 2, Detailed Study Alternatives Carried Forward (DSA); Concurrence Point 2A, Bridging Decisions and Alignment Review; Concurrence Point 3: LEDPA/Preferred Alternative Selection; Concurrence Point 4A: Avoidance and Minimization; Concurrence Point 4B: 30 Percent Hydraulic Review; and Concurrence Point 4C: Permit Drawings Review. Additional information on the NCDOT NEPA/Section 404 Merger Process may be access via the following link: https://connect.ncdot.gov/resources/Environmental/EPU/Merger/Pages/default.aspx. The publication date of the NOI will start a two-year time clock for the agency to reach its final decision on the project (40 CFR 1501.10(a) and (b)(2)).

NCDOT is currently conducting detailed environmental analysis and preparing conceptual design plans on the alternatives carried forward for detailed study. The DEIS is scheduled to be approved and published during fall 2021, with public hearings scheduled to occur in late 2021. The Merger Team is scheduled to select the Least Environmentally Damaging Practicable Alternative during spring 2022. The Combined Final EIS is scheduled for completion early 2023 and the ROD in mid-2023. The USACE is anticipated to issue the Section 404 of the CWA permit in fall 2023. NCDOT has developed a permitting timetable that includes a schedule of decision-making milestones and EIS documentation that has been shared with Merger Team representatives. The permitting timetable for the project may be accessed in the NOI supplementary document.

Project Scoping and Alternatives Considered

Coordination with on the project began shortly following the USACE issuance of the original notice of intent to issue a Draft EIS in the Federal Register on January 27, 2017. A scoping meeting was on September 13, 2017. After NCDOT decided to utilize Federal funds for this project, USACE issued a Notice in the Federal Register to withdraw the prior Notice of Intent, and to notify the public that it would no longer be the lead Federal agency, and would not be issuing a DEIS for this project on November 29, 2018. The USACE indicated in the Notice that the project will be federally funded, and that another lead agency would issue a Notice of Intent to prepare a DEIS.

Since that time, FHWA has notified all Federal, State, local agencies on the NEPA/Section 404 Merger Team that it is the lead Federal agency. The general public has also been notified about FHWA's Federal lead agency status. The purpose of the project is to improve the transportation network in the study area by enhancing mobility and connectivity for traffic moving in and through the project area. The NEPA/Section 404 merger team concurred with the stated purpose for the project and the initial project study area in the Concurrence Point 1 meeting held on March 19, 2019.

To accommodate the study corridor footprint at some proposed interchanges and after receiving and responding to public and local officials' input, expanding the previously approved project study area is recommended. The proposed study area will allow consideration of alignments suggested during the public input process for alternatives that could achieve the project's purpose and satisfy specific transportation needs while minimizing potential impacts to important environmental features.

NCDOT and SCDOT held two public meetings in December 2019 to present and received comments on the project alternatives, corridor options developed by NCDOT and its consultant and refined by local officials and the Merger Team. The first meeting was held on December 3, 2019, in Sunset Beach, North Carolina followed by a second meeting on December 4, 2019, in Little River, South Carolina. Over 1,000 people attended the meetings and more than 1,800 comments were received.

Most of the comments received reflected corridor concept preference for the build concepts, identified potential project impacts, or suggested variations to and additional corridor concepts. A summary of the public meetings held in December 2019 is included in the NOI Supplementary Information document.

The Merger Team reviewed several build alternative corridor concepts, and the following alternatives were carried forward for detail study at the Concurrence Point 2 meeting that occurred on May 4, 2020: Alternative 1, 1A, 2, 4, 4A, 7, and 8. Build Alternative Corridor Concepts 3, 5, 6, and 9 were eliminated from further study. The Merger Team also decided to eliminate the Transportation System Management (TSM), Transportation Demand Management (TDM), and Mass Transit Alternatives from detailed study.

Request for Comments on Information in This Notice

With this Notice, FHWA and NCDOT requests on potential alternatives and impacts, and identification of any relevant information, studies, or analyses of any kind concerning impacts affecting the quality of the human environment. Comments may be posted to the docket found at www.regulations.gov under number FHWA-2021-0017. Otherwise they may also be submitted by email to Carolina-Bays-Pkwy@publicinput.com or by calling (855) 925-2801 and entering project code 7734 when prompted.

(Catalog of Federal Domestic Assistance Program Number 20.205, Highway Planning and Construction. The regulations implementing Executive Order 12372 regarding intergovernmental consultation on Federal programs and activities apply to this program.)

Authority: 42 U.S.C. 4321 et seq.; 23 CFR part 771.

Clarence W. Coleman,
Director of Preconstruction, Raleigh, North Carolina.

[FR Doc. 2021-21967 Filed 10-6-21; 8:45 am]

BILLING CODE 4910-22-P